DEPARTMENT OF HEALTH AND HUMAN SERVICES

Office of Inspector General

Program Exclusions: April 2003

AGENCY: Office of Inspector General, HHS.

ACTION: Notice of program exclusions.

During the month of April 2003, the HHS Office of Inspector General imposed exclusions in the cases set forth below. When an exclusion is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject city, state | Effective date
PROGRAM-RELATED CONVICTIONS
AGUILAR, DAVID HERAN | 05/20/2003
FLORENCE, AZ
ALCANTAR, EVA ALVAREZ | 05/20/2003
LOS ANGELES, CA
ALSAKER, ERIC ALLEN | 05/20/2003
BUFFALO, MN
ARIAS, JOSE | 05/20/2003
PENSACOLA, FL
ASHBAUGH, TERESA MARGE | 05/20/2003
SALINA, KS
BAIRD, CURTIS JAMES III | 05/20/2003
YUCAIPA, CA
BARNHOUSE, WILLIS | 05/20/2003
HONOLULU, HI
BARONOV, BORIS | 05/20/2003
LOS ANGELES, CA
BARRETT, DONNA M | 05/20/2003
BARRE, VT
BENSON, CARRIE L | 05/20/2003
HILLSBORO, OH
BRANDON, MARIA | 05/20/2003
MIAMI, FL
CAO, SANH | 05/20/2003
FOUNTAIN VALLEY, CA
CAPLAN, STEVEN | 05/20/2003
HONOLULU, HI
CASAS, OSIRIS MARIA | 05/20/2003
MIAMI, FL
CERDA, EDUARDO | 05/20/2003
POMONA, CA
CHANG, ALBERT | 05/20/2003
MIAMI, FL
CHASE, JANET A | 05/20/2003
GREELY, CO
CHAVEZ, LINDA MARTINEZ | 05/20/2003
MONTEBELLO, CA
COLEMAN, MAURICE ANN | 05/20/2003
MARYSVILLE, WA
COMPETENT CARE, INC | 05/20/2003
NEWBURGH, NY
CULLEN, KENNETH C | 05/20/2003
WOODSIDE, NY
DAVIS, TERRY B | 05/20/2003
SARASOTA, FL
EDMOND, DOROTY | 05/20/2003
WESTBURY, NY
ESPINOSA, ORLANDO | 05/20/2003
MIAMI, FL
FEENEY, ELIZABETH A | 05/20/2003
CANAL WINCHESTER, OH
FICK, MELISSA | 05/20/2003
SPRINGFIELD, OH
FINA, JEFFREY | 05/20/2003
OKLAHOMA CITY, OK
GASPARYAN, ANNA | 05/20/2003
TARZANA, CA
GONZALEZ, LILIA | 05/20/2003
MIAMI, FL
GONZALEZ, CARLOS J | 05/20/2003
CHIPLEY, FL
GREEN, BRANDI RAE | 05/20/2003
TUCSON, AZ
HERNANDEZ, VERONICA CATALINA | 05/20/2003
HUNTINGTON PK, CA
HERNANDO, GILDA | 05/20/2003
MIAMI, FL
HORNSHUH, DAVID L | 05/20/2003
HONOLULU, HI
HOWARD, JASON | 05/20/2003
MURELLS INLET, SC
JEREZ, EVARISTO | 05/20/2003
MIAMI, FL
KALADZHYAN, OGANES | 05/20/2003
LOS ANGELES, CA
KRAMER, MELODY ANN | 05/20/2003
SPOKANE, WA
LABRADOR, JESUS MANUEL | 05/20/2003
TOPEKA, KS
MAMBREYAN, NORAYR | 05/20/2003
LOS ANGELES, CA
MARTINEZ, JOE | 05/20/2003
LA PUENTE, CA
MED-CARE DISTRIBUTORS, INC | 05/20/2003
SMITHVILLE, WV
MIN, CHANPHIRUN MEANOWUTH | 05/20/2003
DELANO, CA
MITCHELL, JENNIFER LYNN | 05/20/2003
DEL MAR, CA
MOHAMMAD, KHADIJAH | 05/20/2003
MARIANNA, FL
MOHAMMED, KRISHNA | 05/20/2003
EGLIN, FL
MURPHY, HATTIE MAE | 05/20/2003
MIAMI, FL
PLUCER, MARK GERRY | 05/20/2003
FLINT, MI
ROBINSON, JEREMY | 05/20/2003
WASHINGTON, DC
SAAVEDRA, JOSE | 05/20/2003
MIAMI, FL
SALINAS, JOHN YOLMAN | 05/20/2003
DORAVILLE, GA
SALMANS, ROBERT S | 05/20/2003
WOOSTER, OH
SANCHEZ, JUAN | 05/20/2003
MIAMI, FL
SCHLAFF, RICHARD M | 05/20/2003
TERRE HAUTE, IN
SHAW, MARVIN LEROY | 05/20/2003
SANDY, UT
SOLOMON, MARCUS A | 05/20/2003
DELMONT, NJ
T-TECH MEDICAL SERVICES, INC | 05/20/2003
SAFETY HARBOR, FL
THIGPEN, JEFFERY JEROME | 05/20/2003
DULUTH, MN
THOMPSON, MICHAEL W | 05/20/2003
LITHONIA, GA
TONEY, LAURA | 05/20/2003
NAMPA, ID
TRANS-CAPITAL INVESTMENT GROUP | 05/20/2003
TAMPA, FL
TRIFAN, SHAUN KATHLEEN | 05/20/2003
S PORTLAND, ME
TY, HUYNH VAN | 05/20/2003
RIALTO, CA
URBANIK, MICHAEL STEPHEN | 05/20/2003
CLAWSON, MI
WEBER, DAVID C | 05/20/2003
AUSTIN, TX
FELONY CONVICTION FOR HEALTH CARE FRAUD
CARNEY, DEBORAH A | 05/20/2003
LEWISVILLE, TX
FINK, DAVID M | 05/20/2003
METUCHEN, NJ
HELLER, ELLIOT M | 05/20/2003
NEW BRUNSWICK, NJ
KATINE, SCOTT H | 05/20/2003
MONTGOMERY, PA
KRAMER, LARRY S | 05/20/2003
POMONA, NY
LAYSHOCK, DAVENE MARIE | 05/20/2003
DENVER, CO
MELCHOR, CYNTHIA VIOLETA | 05/20/2003
PERRYSBURG, OH
MEYER, MARILYN KAY | 05/20/2003
WOLCOTT, IN
NGUYEN, SANDY YUNG LUN | 05/20/2003
SAN JOSE, CA
NORBY, SCOTT | 05/20/2003
BONITA, CA
OLIVAS, DOLORES ANITA | 05/20/2003
COLORADO SPRNGS, CO
SADLER, ALANE K | 05/20/2003
CLEVELAND, OH
VOUGHT, RAYMOND JESSE | 05/20/2003
SAN PEDRO, CA
FELONY CONTROL SUBSTANCE CONVICTION
ANDERSON, GINA M | 05/20/2003
PEMBROKE, MA
ATHEY, ALAN JAMES | 05/20/2003
AURORA, CO
BUCHAR, CHRIS R | 05/20/2003
BALTIMORE, MD
BYRNE, MARY ANN | 05/20/2003
EL CAJON, CA
CHAMP, DEBORAH LEE | 05/20/2003
REYNOLDSBURG, OH
DENISCO, RICHARD ALAN | 05/20/2003
LAKE MARY, FL
FOLEY, COLLEEN BERNICE | 05/20/2003
HEMPSTEAD, TX
GRANDSTAFF, STEVEN WADE | 05/20/2003
SEWARD, AK
HUNTER, JERRY DEWAYNE | 05/20/2003
INDIANAPOLIS, IN
JONES, TONIANETTA DENISE | 05/20/2003
MARIANNA, FL
KITLOWSKI, MARY LOU | 05/20/2003
AURORA, CO
LONGCOR, MICHELLE GAY | 05/20/2003
STOCKTON, CA
LUCIER, KATHLEEN JOAN | 05/20/2003
SONORA, CA
MEADE, KIMBERLEY DAWN | 05/20/2003
RALEIGH, NC
MEDINA, GAY LYNN | 05/20/2003
SAN ANTONIO, TX
PERKINS, JANET | 05/20/2003
UNIVERSITY CITY, MO
RIBBENTROP, PAUL HENRY | 05/20/2003
CLINTON TWNSHP, MI
SHARP, LANA MARIE | 05/20/2003
WHITESBORO, TX
PATIENT ABUSE/NEGLECT CONVICTIONS
BENNETT, PATRICIA | 05/20/2003
CANTON, MS
BROTHERS, AELIA SINAE | 05/20/2003
OKLAHOMA CITY, OK
BURGESS, RANDY SHANE | 05/20/2003
MITCHELL, SD
BURT, TRACY | 05/20/2003
OXFORD, MS
COMPASSIONATE HOME CARE, INC | 05/20/2003
MINNEAPOLIS, MN
CORNISH, GEOFFREY LEONARD | 05/20/2003
CORCORAN, CA
EVANS, STEPANIE | 05/20/2003
OCONOMOWOC, WI
HERNANDEZ, JOSE SERGIO | 05/20/2003
ABERDEEN, WA
HINZO, ALEX GILBERT | 05/20/2003
SANTA MARIA, CA
HUDSON, SARAH E | 05/20/2003
EXETER, NH
HUMPHRIES, PAULINE | 05/20/2003
CLEVELAND, OH
KOENIG, RYAN G | 05/20/2003
CLINTON, WI
LOEB, CHARLES PHILLIP III | 05/20/2003
LOS ANGELES, CA
MARIER, KUIR G | 05/20/2003
TUCSON, AZ
MASSOUD, NIDAL | 05/20/2003
E PALO ALTO, CA
NEELY, MICHAEL T | 05/20/2003
GREENFIELD, WI
REILLY, TARA | 05/20/2003
LENEXA, KS
ROSENTHAL, DAVID K | 05/20/2003
SACRAMENTO, CA
SPRUCH, REZSO | 05/20/2003
MORELIA, MEXICO
VICTORIA, PAUL SHANE | 05/20/2003
LACEY, WA
WHALEN, MARTIN | 05/20/2003
THORNTON, CO
WICKRAM, IAN E | 05/20/2003
TRACY, CA
WILLIAMS, VASIE | 05/20/2003
MANSFIELD, OH
WISLA, PETER BERT | 05/20/2003
PRESQUE ISLE, WI
YOUNG, ELSIE MAE | 05/20/2003
COATESVILLE, PA
CONVICTION FOR HEALTH CARE FRAUD
VAUGHAN-SCHREIBER, JANIE | DOYLESTOWN, PA | 05/20/2003
CONVICTION-OBSTRUCTION OF AN INVESTIGATION
ALTER, SUZI | 05/20/2003
SHERMAN OAKS, CA
LICARI, ANTHONY MICHAEL | 05/20/2003
PEMBROKE PINES, FL
LICENSE REVOCATION/SUSPENSION/SURRENDERED
AIKEN, RHONDA L | 05/20/2003
MILTON, VT
ALLEN, KIMBERLY ANN | 05/20/2003
LYNN, MA
BABB, STEPHEN REX | 05/20/2003
PROVO, UT
BAKER, SHERYL R | 05/20/2003
WAYNESBORO, VA
BLODGETT, ERIC R | 05/20/2003
FRAMINGHAM, MA
BREKOSKY, DENISE P | 05/20/2003
DILLSBURG, PA
BRENNAN, LORI JEAN | 05/20/2003
MESA, AZ
BROOKS, LYNNETTA | 05/20/2003
PHOENIX, AZ
BROOKS, LINDA | 05/20/2003
DIXON, WY
BROTHERTON, WILLIAM LESTER | 05/20/2003
FORT COLLINS, CO
BROWN, CATHY | 05/20/2003
WICHITA, KS
BROWN, NICOLA SUSAN | 05/20/2003
DENVER, CO
BRUCHIS, GARY ALAN | 05/20/2003
LAKEWOOD, CO
BURKE, JAMES BENJAMIN | 05/20/2003
BIRMINGHAM, AL
BUSHWAY, LEIGH ANN | 05/20/2003
IRONDALE, AL
BUSSE, WAYNE SCOTT | 05/20/2003
SANTEE, CA
CALAME, CYNTHIA DIANE | 05/20/2003
ORRVILLE, AL
CARBONELL, AUGUSTINA | 05/20/2003
TUCSON, AZ
CARMODY, CATHLEEN MARY PAT | 05/20/2003
AURORA, CO
CARPENTER, ETTA MARIE | 05/20/2003
PHILPOT, KY
CARTER, VALERIE JOSLIN | 05/20/2003
PHOENIX, AZ
CERROS, JUAN JOSE | 05/20/2003
WEST WENDOVER, NV
CHAPPLE, STEVEN | 05/20/2003
TUCSON, AZ
CLEMONS, REGINALD DEAN | 05/20/2003
FORT COLLINS, CO
CORSELLO, SERAFINA | 05/20/2003
NEW YORK, NY
CROSS, BRADLEY JAMES | 05/20/2003
NILES, MI
CROUCH, SHANNON CELESTE | 05/20/2003
YUMA, AZ
DALTON, DEL B | 05/20/2003
SAN DIEGO, CA
DANIEL, ELIZABETH | 05/20/2003
GOODYEAR, AZ
DAVIS, CHERYL L | 05/20/2003
NORFOLK, VA
DAVIS, ROY L | 05/20/2003
FARMINGTON, NM
DEZES, MARY ELLEN | 05/20/2003
PALM COAST, FL
DONLEY, PATRICIA GAIL | 05/20/2003
SANTA CLARITA, CA
DRISCOLL, NANCY ELLEN | 05/20/2003
PHOENIX, AZ
EDWARDS, LARRY JOSEPH | 05/20/2003
PUEBLO, CO
FARMER, ROBIN SUE | 05/20/2003
TUCSON, AZ
FAROOQI, WAQAR ALI | 05/20/2003
AUBURN, NY
FLEMING, TAMI S | 05/20/2003
HOUSTON, TX
FRANK, EDITH JENEAN | 05/20/2003
VALLEJO, CA
FRY, MICKEY L | 05/20/2003
CORYDON, IA
FULTON, CARL L | 05/20/2003
DALLAS, TX
GARDUNO, MARTHA LETICIA | 05/20/2003
LOS ANGELES, CA
GIBBONS, DARLA M | 05/20/2003
YOUNGTOWN, AZ
GILMORE, LESLIE R | 05/20/2003
SANFORD, FL
GOLDFINE, BRIAN DAVID | 05/20/2003
PALM DESERT, CA
GREENE, KIMBERLY LEIGH | 05/20/2003
EUFAULA, AL
HARDING, HARRIET A | 05/20/2003
FLORENCE, MA
HARVEY, MELINDA D | 05/20/2003
GREENVILLE, MS
HAYES, AUDREY MUZACZ | 05/20/2003
PHOENIX, AZ
HEMRICK, JENNIFER L | 05/20/2003
KERRVILLE, TX
HIGGINS, JENNIFER L | 05/20/2003
LEWISTON, ME
HOLT, GWENDOLYN ANNE | 05/20/2003
RUSTBURG, VA
HORNER, PHILIP STANLEY | 05/20/2003
CONCORD, NH
HOUSTEEN, DENIECE | 05/20/2003
CHINLE, AZ
HUFFMAN, JACQUELINE B | 05/20/2003
SAFFORD, AZ
HURST, LISA MARIE | 05/20/2003
JOLIET, IL
HURTADO, SANDRA G | 05/20/2003
VENTURA, CA
IRISH, IRENE ELIZABETH | 05/20/2003
LAKE PLACID, FL
JACKSON, KELLY P | 05/20/2003
STAUNTON, VA
JANES, STEVEN WILLIAM | 05/20/2003
LOWELL, MA
JIMENEZ, NANCY LEE | 05/20/2003
INDIO, CA
JONES, CHERYL R | 05/20/2003
FORT LUPTON, CO
KADERLIK, KAREN CATHERINE | 05/20/2003
ST PAUL, MN
KENNEDY, KEITH P | 05/20/2003
LEECHBURG, PA
KING, EDWARD JOSEPH III | 05/20/2003
PHOENIX, AZ
KINTER, MARK SILVON | 05/20/2003
PEARCY, AR
LAFONT, DONNA CHRISTIAN | 05/20/2003
SAN JOSE, CA
LANG, MARY ANN | 05/20/2003
KERRVILLE, TX
LARIMORE, SUSAN M | 05/20/2003
MONTE VISTA, CO
LASPISA, JOSEPH ANTHONY | 05/20/2003
MELROSE PARK, IL
LEUSCHEN, MARILYN LEE | 05/20/2003
ERIE, PA
LEVIN, JOEL L | 05/20/2003
ELKINS PARK, PA
LEVIN, PAULA B | 05/20/2003
ELKINS PARK, PA
LOVEJOY, LAWRENCE DARRYL | 05/20/2003
SLOAN, IA
MAHDY, HELMY MOHAMED | 05/20/2003
BRIDGEPORT, CT
MALAVE, RONALD C | 05/20/2003
LAKE MARY, FL
MALEKI, PEJMAN | 05/20/2003
IRVINE, CA
MARBUT, CATHY ANN | 05/20/2003
BIRMINGHAM, AL
MARLENEE, KEVIN ARLO | 05/20/2003
DES MOINES, IA
MCCONNAUGHEY, PAMELA S | 05/20/2003
TUCSON, AZ
MELTON, BRENDA FAYE | 05/20/2003
ANCHORAGE, AK
MESIROW, PATRICIA L | 05/20/2003
ROANOKE, VA
MICHEL, LESLIE | 05/20/2003
NEW ORLEANS, LA
MILES, DELTON L | 05/20/2003
FLAGSTAFF, AZ
MILKEY, JOHN JOSEPH | 05/20/2003
LONG BEACH, CA
MOAYEDPARDAZI, SEYED B | 05/20/2003
DECATUR, AL
MONET, DEBRA DAWN | 05/20/2003
PUEBLO WEST, CO
MOSES, BRUCE DONALD JR | 05/20/2003
PINEVILLE, LA
MURPHY, GAIL SUSAN | 05/20/2003
PEORIA, AZ
NAGORE, LYNNE MICHELLE | 05/20/2003
TUCSON, AZ
NEIBURG, DOROTHY E | 05/20/2003
ESSEX JUNCTION, VT
NOWAK, VALENTINE | 05/20/2003
JARRETTSVILLE, MD
O'DONNELL, DENISE MARIE | 05/20/2003
LOS ANGELES, CA
PARILLO, KELLY A | 05/20/2003
PHOENIX, AZ
PASTONES, DENNIS FERNANDEZ | 05/20/2003
SAN FRANCISCO, CA
PATRICK, MARY J | 05/20/2003
LA SALLE, IL
PEPPERS, BRETT | 05/20/2003
FOUNTAIN HILLS, AZ
PERRY, ANITA A | 05/20/2003
NEWPORT NEWS, VA
PETRIE, ROBERT JEFFERY | 05/20/2003
ST AUGUSTINE, FL
PEZOA, LOIS JACQUELINE | 05/20/2003
DENVER, CO
POOR, GREGORY SHAWN | 05/20/2003
OMAHA, NE
RAMMING, KENNETH PAUL | 05/20/2003
LOS ANGELES, CA
RANDEL, WILLIAM BRADLEY | 05/20/2003
TUCSON, AZ
REEVES, MYRNA LYNN | 05/20/2003
TUCSON, AZ
RINALDI, TODD CHARLES | 05/20/2003
DENVER, CO
ROACH, DEBRA | 05/20/2003
PHOENIX, AZ
ROBBINS, JILL | 05/20/2003
PEORIA, AZ
ROBERTSON, DONNA LEE | 05/20/2003
GREENFIELD, IN
ROBINSON, PHYLLIS D | 05/20/2003
WESTBURY, NY
ROUSSE, TONI F | 05/20/2003
LONGMEADOW, MA
RUSH, CARRIE GAY | 05/20/2003
VALENCIA, CA
SAFDARI, MEHDI | 05/20/2003
ALTAMONTE SPRNGS, FL
SANDERS, TANYA M | 05/20/2003
CHICAGO, IL
SCHNEIDER, LISA FITZGERALD | 05/20/2003
PITTSBURGH, PA
SCHRYVER, KIM ELAINE | 05/20/2003
LAMAR, CO
SCHWAB, BRENT L | 05/20/2003
ELKRIDGE, MD
SCULLY, KIMBERLY M | 05/20/2003
PITTSBURGH, PA
SELLERS, ANTHONY BRUCE | 05/20/2003
ANAHEIM, CA
SHURLAN, VLADIMIR P | 05/20/2003
CAMBRIDGE, MA
ST ROMAIN-KYLE, PAMELA A | 05/20/2003
PEORIA, AZ
STATHOULOPOULOS, PETER A | 05/20/2003
WORCESTER, MA
STONE, JEFFREY K | 05/20/2003
SAN FRANCISCO, CA
STUCKLESS, JENNIFER MARTHA | 05/20/2003
TUCSON, AZ
TATE, SHELLY R | 05/20/2003
QUEEN CREEK, AZ
TEFFT, JANICE MARLENE | 05/20/2003
CENTRAL FALLS, RI
THORNTON, LAWRENCE J | 05/20/2003
THOMASTON, CT
UTLEY, JOHN ROWLAND | 05/20/2003
SANDIA, TX
VANCOR, ALBERT SCOTT | 05/20/2003
GREENVILLE, AL
WAGHER, LISA KATHLEEN | 05/20/2003
WILLIAMS, AZ
WASSIF, ANTHONY A | 05/20/2003
RESEDSA, CA
WEINBERG, ROBERT PAUL | 05/20/2003
BOSTON, MA
WEINBERG, MARC | 05/20/2003
COLUMBIA, MD
WHITE, MARGARET | 05/20/2003
ASHEVILLE, NC
WILSON, JOHN STROTHER | 05/20/2003
MONTGOMERY, AL
WILTFANG, CHRIS CHARLES | 05/20/2003
ST SIMONS ISLAND, GA
WITTRUP, LADONNA ALBERTINA | 05/20/2003
GREELEY, CO
FEDERAL/STATE EXCLUSION/SUSPENSION
NATHAN, SYLVESTER ARTHUR | 05/20/2003
WOODRIDGE, IL
NATOLI, DENNIS | 05/20/2003
RIVER EDGE, NJ
SMOOTS, OLIVIA L | 05/20/2003
SACRAMENTO, CA
OWNED/CONTROLLED BY CONVICTED ENTITIES
BLOSSOM HILL DENTAL CARE | 05/20/2003
SAN JOSE, CA
CALIXTO GARCIA MEDICAL CTR INC | 05/20/2003
MIAMI, FL
DIAMOND DENTAL SERVICES, LLP | 05/20/2003
POCATELLO, ID
FAMILY FIRST HEALTHCARE, INC | 05/20/2003
WICHITA, KS
HOI LEE D D S | 05/20/2003
RENTON, WA
NAT'L MEDICAL EQUIP & SUPPLIES | 05/20/2003
PLANTATION, FL
PRINCIPLE MEDICAL MGMT, INC | 05/20/2003
HOLLYWOOD, CA
ROLYJANE HOME CARE, INC | 05/20/2003
MIAMI, FL
SOLOMON'S INVALID COACH, INC | 05/20/2003
NEWARK, NJ
UNION PHARMACY | 05/20/2003
MIAMI, FL
DEFAULT ON HEAL LOAN
BARBATO, BEVERLY V | 04/03/2003
SALEM, WV
BILYEU, STUART WILLIAM | 05/20/2003
ANN ARBOR, MI
CROW, JOE A | 05/20/2003
ROCKY FORD, CO
DIEDE, CLYDE A | 05/20/2003
WINNER, SD
FLEMING, JAMES E JR | 05/20/2003
E CLEVELAND, OH
LESINSKI, MARY CATHERINE | 04/14/2003
CLEVELAND, OH
MARTINEZ, JOSE R | 05/20/2003
MINEOLA, TX
OWNERS OF EXCLUDED ENTITIES
PARKER, CHARLIE A | 05/20/2003
MINNEAPOLIS, MN
PARKER, ROBERTA CATO | 05/20/2003
MINNEAPOLIS, MN
CIVIL MONETARY PENALTY
MATTHYS, JERRY A | 10/01/2002
SHAWNEE MISSION, KS

Dated: May 1, 2003.
Katherine B. Petrowski,
Director, Exclusions Staff Office of Inspector General.

[FR Doc. 03-11681 Filed 5-14-03; 8:45 am]

BILLING CODE 4150-04-P